ENVIRONMENTAL PROTECTION AGENCY

40 CFR Part 52

[EPA-R06-OAR-2014-0626; FRL-9930-26-Region 6]

Approval and Promulgation of Implementation Plans; New Mexico; Revisions to the Particulate Matter Less Than 2.5 Micrometers (PM2.5) Prevention of Significant Deterioration (PSD) Permitting Program State Implementation Plan (SIP)

AGENCY: Environmental Protection Agency (EPA).

ACTION: Proposed rule.

SUMMARY: The Environmental Protection Agency (EPA) is proposing to approve portions of two revisions to the New Mexico SIP for the permitting of PM2.5 emissions submitted on May 23, 2011, and August 6, 2014. Together, these submittals revise the New Mexico PSD program to be consistent with the federal PSD regulations regarding the use of a significant impact level (SIL) or significant monitoring concentration (SMC) for PM2.5 emissions. We are proposing to approve these SIP revisions to regulate PM2.5 emissions in accordance with requirements of section 110 and part C of the Clean Air Act.

DATES: Written comments must be received on or before August 13, 2015.

ADDRESSES: Comments may be mailed to Ms. Adina Wiley, Air Planning Section (6PD-R), Environmental Protection Agency, 1445 Ross Avenue, Ste. 1200, Dallas, TX 75202-2733. Comments may also be submitted electronically or through hand delivery/courier by following the detailed instructions in the ADDRESSES section of the direct final rule located in the rules section of this Federal Register.

FOR FURTHER INFORMATION CONTACT: Ms. Adina Wiley, 214-665-2115, wiley.adina@epa.gov.

SUPPLEMENTARY INFORMATION: In the final rules section of this Federal Register, EPA is approving the State's SIP submittals as a direct rule without prior proposal because the Agency views this as noncontroversial submittal and anticipates no adverse comments. A detailed rationale for the approval is set forth in the direct final rule. If no relevant adverse comments are received in response to this action no further activity is contemplated. If EPA receives relevant adverse comments, the direct final rule will be withdrawn and all public comments received will be addressed in a subsequent final rule based on this proposed rule. EPA will not institute a second comment period. Any parties interested in commenting on this action should do so at this time.

For additional information, see the direct final rule which is located in the rules section of this Federal Register.

Dated: June 30, 2015.
Ron Curry,
Regional Administrator, Region 6.

[FR Doc. 2015-17059 Filed 7-13-15; 8:45 am]

BILLING CODE 6560-50-P